DEPARTMENT OF ENERGY

[GDO Docket No. EA-519]

Application for Authorization To Export Electric Energy; OIKO Energy Inc.

AGENCY: Grid Deployment Office, Department of Energy.

ACTION: Notice of application.

SUMMARY: OIKO Energy Inc. (OIKO or the Applicant) has applied for authorization to transmit electric energy from the United States to Canada pursuant to the Federal Power Act.

DATES: Comments, protests, or motions to intervene must be submitted on or before January 21, 2025.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Redelegation Order No. S3-DEL-GD1-2023.

On October 31, 2024, OIKO filed an application for authorization to transmit electric energy from the United States to Canada for a term of five years. App. at 1.

According to the Application, the “Applicant is a corporation organized under the Canada Business Corporation Act, with its principal place of business in Lac Brome, Quebec, Canada.” Id. The Applicant represents that it is “expecting to become a power marketer engaging in the purchase and sale of physical and/or virtual energy in the Day-ahead and Real-time Markets of various Independent System Operators and Regional Transmission Organizations.” Id. OIKO states it does not own, operate, or control “any electric generation, transmission or distribution facilities. Id. Further, OIKO represents that it “has no obligation to serve native load usually associated with a franchised service area, and, thus . . . will not impair any current supplier's ability to meet current and prospective power supply obligations.” Id. at 3. The Applicant represents that “[a]ny power purchased . . . for export would be surplus to the needs of those entities selling power to OIKO. Therefore, the electric power that OIKO will export on either a firm or interruptible basis will not impair the sufficiency of the electric power supply within the United States.” Id. (internal citations omitted).

The Applicant further states that it will “schedule its transactions with the appropriate balancing authority areas in compliance with the reliability criteria standards and guidelines established by the North American Electric Reliability Corporation[.]” App. at 3. OIKO asserts that its exports will not impair or tend to impede the regional coordination of electric utility planning or operations. Id. at 4.

The existing international transmission facilities to be utilized by the Applicant have been previously authorized by Presidential permits issued pursuant to Executive Order 10485, as amended, and are appropriate for open access transmission by third parties. See App. at Attachment 1.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning OIKO's Application should be clearly marked with GDO Docket No. EA-519. Additional copies are to be provided directly to Alex Falconer, OIKO Energy Inc., 169 Mont Echo, Lac Brome, Quebec, Canada, J0E 1V0, afalconer@oiko.ca and William J. Dodge, Esq., Downs Rachlin Martin PLLC, P.O. Box 190, 199 Main St., Burlington, VT 05402-0190, wdodge@drm.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on December 13, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 16, 2024.
Treena V. Garrett,
Federal Register Liaison Officer, U.S. Department of Energy.

[FR Doc. 2024-30220 Filed 12-18-24; 8:45 am]

BILLING CODE 6450-01-P